DEPARTMENT OF THE INTERIOR

National Park Service

Chesapeake and Ohio Canal National Historical Park Advisory Commission; Notice of Public Meeting

Notice is hereby given in accordance with the Federal Advisory Committee Act that a meeting of the Chesapeake and Ohio Canal National Historical Park Advisory Commission will be held at 9:30 a.m. on Friday, January 20, 2006, at park headquarters, 1850 Dual Highway, Hagerstown, Maryland.

The Commission was established by Public Law 91-664 to meet and consult with the Secretary of the Interior on general policies and specific matters related to the administration and development of the Chesapeake and Ohio Canal National Historical Park.

The members of the Commission are as follows:

Mrs. Sheila Rabb Weidenfeld, Chairman.

Mr. Charles J. Weir.

Mr. Barry A. Passett.

Mr. Terry W. Hepburn.

Ms. JoAnn M. Spevacek.

Mrs. Mary E. Woodward.

Mrs. Donna Printz.

Mrs. Ferial S. Bishop.

Ms. Nancy C. Long.

Mrs. Reynolds.

Dr. James H. Gilford.

Brother James Kirkpatrick.

Topics that will be presented during the meeting include:

1. Update on park operations.

2. Update on major construction/development projects.

3. Update on partnership projects.

The meeting will be open to the public. Any member of the public may file with the Commission a written statement concerning the matters to be discussed. Persons wishing further information concerning this meeting, or who wish to submit written Statements, may contact Kevin Brandt, Superintendent, C&O Canal National Historic Park, 1850 Dual Highway, Suite 100, Hagerstown, Maryland 21740.

Minutes of the meeting will be available for public inspection six weeks after the meeting at park headquarters, Hagerstown, Maryland.

Dated: October 31, 2005.
Kevin D. Brandt,
Superintendent, Chesapeake and Ohio Canal National Historical Park.

[FR Doc. 05-23383 Filed 11-28-05; 8:45 am]

BILLING CODE 4312-52-M